SURFACE TRANSPORTATION BOARD

[Docket No. FD 36707]

Washington, Idaho & Montana Railway LLC—Operation Exemption—BLPI RR LLC

Washington, Idaho & Montana Railway LLC (WIM), a noncarrier, has filed a verified notice of exemption pursuant to 49 CFR 1150.31 to operate approximately 43.744 miles of rail line owned by the BLPI RR LLC (BLPI RR) ¹ in the County of Latah, Idaho, from milepost 3.32 (Washington/Idaho state line) to milepost 47.06 at Bovill, Idaho (the Line).

¹ See BLPI RR L.L.C.—Acquis. & Operation Exemption—Palouse River & Coulee City R.R., FD 36706 (STB served July 7, 2023).

According to the verified notice, WIM has entered into an operating agreement with BLPI RR. WIM further states that it will interchange with the Spokane, Spangle & Palouse Railway (SS&P) at SS&P's connection with the Line at the Washington/Idaho state line or at another location near Palouse, Wash., as WIM and SS&P may agree.

This transaction is related to a concurrently filed verified notice of exemption in Howell—Continuance of Control Exemption—Washington, Idaho & Montana Railway, Docket No. FD 36708, in which the John Howell seeks to continue in control of WIM upon WIM's becoming a Class III rail carrier.

WIM certifies that its annual projected revenues as a result of the transaction will not exceed those that would qualify it as a Class III carrier and will not exceed $5 million. WIM also states that the operation agreement does not involve a provision or agreement that would limit future interchange with a third-party connecting carrier.

The effective date of this exemption is September 8, 2023 (30 days after the verified notice was filed).² WIM indicates in the verified notice that it and BLPI RR seek to commence service on the Line as soon as possible. The parties are reminded that WIM may not consummate the transaction described in this notice until after the effective date of the related continuance in control exemption in Docket No. FD 36708.

² WIM initially submitted its verified notice on August 4, 2023, but supplemented it by letter on August 9, 2023. The date of WIM's supplement will be considered the filing date for purposes of calculating the effective date of this exemption.

If the verified notice contains false or misleading information, the exemption is void ab initio. Petitions to revoke the exemption under 49 U.S.C. 10502(d) may be filed at any time. The filing of a petition to revoke will not automatically stay the effectiveness of the exemption. Petitions for stay must be filed no later than September 1, 2023 (at least seven days before the exemption becomes effective).

All pleadings, referring to Docket No. FD 36707, must be filed with the Surface Transportation Board either via e-filing on the Board's website or in writing addressed to 395 E Street SW, Washington, DC 20423-0001. In addition, a copy of each pleading must be served on WIM's representative, John K. Fiorilla, Dyer & Peterson, PC, 605 Main Street, Suite 104, Riverton, NJ 08077-1440.

According to WIM, this action is categorically excluded from environmental review under 49 CFR 1105.6(c) and from historic preservation reporting requirements under 49 CFR 1105.8(b).

Board decisions and notices are available at www.stb.gov.

Decided: August 21, 2023.
By the Board, Mai T. Dinh, Director, Office of Proceedings.
Kenyatta Clay,
Clearance Clerk.

[FR Doc. 2023-18270 Filed 8-24-23; 8:45 am]

BILLING CODE 4915-01-P